DEPARTMENT OF COMMERCE

National Oceanic and Atmospheric Administration

15 CFR Part 904

[Docket No. 040902252-4252-01; I.D. 092804C]

RIN 0648-AS54

Civil Procedures

AGENCY: Office of General Counsel for Enforcement and Litigation, National Oceanic and Atmospheric Administration (NOAA), Commerce.

ACTION: Proposed rule; amendments and technical refinements to Civil Procedures; reopening of the comment period.

SUMMARY: In a proposed rule published in the Federal Register on October 12, 2004, NOAA requested comments on proposed revisions to its Civil Procedures which govern the Agency's administrative proceedings for the assessment of civil penalties; suspension, revocation, modification, or denial of permits; issuance and use of written warnings; and release or forfeiture of seized property. The comment period for the proposed rule closed on December 13, 2004. Comments addressed various issues and included requests to extend the comment period. The intent of this document is to announce the reopening of the public comment period.

DATES: Written comments must be received on or before January 31, 2005.

ADDRESSES: Send comments to Meggan Engelke-Ros, Enforcement Attorney, Office of General Counsel for Enforcement and Litigation, NOAA. Comments may be submitted by:

• Mail to 8484 Georgia Avenue, Suite 400, Silver Spring, MD 20910;

• E-mail to Part904.comments@noaa.gov; or

• Webform at the Federal eRulemaking Portal: www.regulations.gov. Follow the instructions at that site for submitting comments.

FOR FURTHER INFORMATION CONTACT: Meggan Engelke-Ros or Susan S. Beresford, 301-427-2202.

SUPPLEMENTARY INFORMATION: As announced in the Federal Register on October 12, 2004 (69 FR 60569), NOAA is proposing revisions to its Civil Procedures which govern the Agency's administrative proceedings for the assessment of civil penalties; suspension, revocation, modification, or denial of permits; issuance and use of written warnings; and release or forfeiture of seized property. The comment period for the proposed rule closed on December 13, 2004. While NOAA received comments expressing opinions about whether, and in what way, its Civil Procedures should be revised, NOAA was also asked to extend the comment period beyond the original 60 days. NOAA has reopened the comment period to provide the public an additional opportunity to comment on the proposed revisions. The agency believes these additional comments will aid in the evaluation of the proposed revisions. Comments received between December 13, 2004, and the publication date of this document will be given full consideration by NOAA.

Background

In October 2004, NOAA proposed revisions (69 FR 60569) to the civil procedure rules that apply to its administrative proceedings under 15 CFR part 904. Part 904 has been largely unchanged since 1987 and the proposed changes were intended to: (1) conform the civil procedure rules to changes in applicable Federal laws and regulations; (2) improve efficiency and fairness of administrative proceedings; (3) clarify any ambiguities or inconsistencies in the existing civil procedure rules; (4) eliminate redundant language and correct language errors; and (5) conform the civil procedure rules to current Agency practice.

NOAA invites comments on all aspects of the revisions proposed to part 904 from all interested parties. Information on the time period for submission of comments and directions for their submission may be found in the DATES and ADDRESSES section of this document.

It has been determined that this rule is not a “significant regulatory action” under the terms of Executive Order 12866 and is therefore not subject to OMB review.

Authority: 16 U.S.C. 1801-1882; 16 U.S.C. 1531-1543; 16 U.S.C. 1361-1407; 16 U.S.C. 3371-3378; 16 U.S.C. 1431-1439; 16 U.S.C. 773-773k; 16 U.S.C. 951-961; 16 U.S.C. 1021-1032; 16 U.S.C. 3631-3644; 42 U.S.C. 9101 et seq.; 30 U.S.C. 1401 et seq.; 16 U.S.C. 971-971k; 16 U.S.C. 781 et seq.; 16 U.S.C. 2401-2413; 16 U.S.C. 2431-2444; 16 U.S.C. 972-972h; 16 U.S.C. 916-916l; 16 U.S.C. 1151-1175; 16 U.S.C. 3601-3608; 16 U.S.C. 1851 note; 15 U.S.C. 4201 et seq.; Pub. L. 102-587; 106 Stat. 5039.

Dated: December 29, 2004.
Jane H. Chalmers,
Acting General Counsel, National Oceanic and Atmospheric Administration.

[FR Doc. 04-28751 Filed 12-30-04; 3:39 pm]

BILLING CODE 3510-12-S